ENVIRONMENTAL PROTECTION AGENCY

40 CFR Part 52

[GA-50; GA-53; GA-56; GA-58; GA-59-200230(a); FRL-7244-5]

Approval and Promulgation of Implementation Plans; Georgia: Approval of Revisions to State Implementation Plan

AGENCY: Environmental Protection Agency (EPA).

ACTION: Direct final rule.

SUMMARY: The EPA is approving the State Implementation Plan (SIP) revisions submitted by the State of Georgia through the Georgia Environmental Protection Division (GAEPD) on December 6, 1999, March 21, 2000, January 4, 2001, August 21, 2001, and December 28, 2001. These revisions pertain to Rules for Air Quality Control and Rules for Enhanced Inspection and Maintenance.

DATES: This direct final rule is effective September 9, 2002, without further notice, unless EPA receives adverse comment by August 12, 2002. If adverse comment is received, EPA will publish a timely withdrawal of the direct final rule in the Federal Register and inform the public that the rule will not take effect.

ADDRESSES: All comments should be addressed to: Scott Martin at the EPA, Region 4 Air Planning Branch, 61 Forsyth Street, SW., Atlanta, Georgia 30303-8960.

Copies of the State submittal(s) are available at the following addresses for inspection during normal business hours:

Environmental Protection Agency, Region 4, Air Planning Branch, 61 Forsyth Street, SW., Atlanta, Georgia 30303-8960.

Air Protection Branch, Georgia Environmental Protection Division, Georgia Department of Natural Resources, 4244 International Parkway, Suite 120, Atlanta, Georgia 30354. Telephone (404) 363-7000.

FOR FURTHER INFORMATION CONTACT: Scott Martin 404-562-9036. E-mail: martin.scott@epa.gov.

SUPPLEMENTARY INFORMATION:

I. Background

On December 6, 1999, March 21, 2000, January 4, 2001, August 21, 2001, and December 28, 2001, the GAEPD submitted revisions to the Georgia SIP. These revisions pertain to Chapter 391-3-1 Rules for Air Quality Control and Chapter 391-3-20 Enhanced Inspection and Maintenance. The revisions are described below.

II. Analysis of State's Submittal

Description of Revisions Submitted on December 6, 1999

Chapter 391-3-20: Rules for Enhanced Inspection and Maintenance (I/M)

On December 6, 1999, the Georgia Environmental Protection Division (EPD) submitted a request to revise the enhanced I/M program in the Atlanta, Georgia ozone nonattainment area as described in the State Implementation Plan (SIP). The revisions were to the Georgia “Rules for Enhanced Inspection and Maintenance”, Chapter 391-3-20. The primary changes to the rules were the following: (1) The minimum expenditure required to obtain a repair waiver was raised to the Federally mandated level of $450 plus an adjustment based upon the change in the Consumer Price Index since 1989; (2) County tax and tag personnel were authorized to process I/M exemptions, extensions, and waivers; and (3) the need for windshield stickers was repealed. There were other minor changes made to the program, including administrative and procedural amendments that will have no impact upon the emission reduction of the program.

The primary change, the increase in the minimum waiver expenditure, is in accordance with the specifications EPA established for enhanced I/M programs in the November 5, 1992 Federal Register. This increased limit will result in vehicles failing the I/M test receiving more effective repairs, especially those with excessive nitrogen oxide emissions. The minimum waiver expenditure will be adjusted yearly in accordance with EPA requirements.

Description of Revisions Submitted on March 21, 2000

Chapter 391-3-1: Rules For Air Quality Control

Rule 391-3-1.01(pp) “Modification” is being revised to clarify that routine maintenance, repair, and replacement; an increase of production; an increase in the hours of operation; and the use of alternative fuel or raw material may not be a modification.

Rule 391-3-1.01(llll) “Volatile Organic Compound (VOC)” is being revised to add volatile methyl siloxanes and parachlorobenzotriflouride to the list of exempt VOC's in accordance with EPA's definition of VOC.

Chapter 391-3-1.03: Permits

Rule 391-3-1-.03(2)(i) is being amended to allow the public and EPA notification and review of a permit application to begin upon receipt of a permit application rather than upon completion of a draft permit.

Description of Revisions Submitted on January 4, 2001

Chapter 391-3-1: Rules For Air Quality Control

Rule 391-3-1.01(nnnn) “Procedures for Testing and Monitoring Sources of Air Pollutants” is being revised to reflect a new revision date of September 20, 2000.

Rule 391-3-1-.02(2)(zz) “Gasoline Dispensing Facilities—Stage II” is being revised to provide an exemption for Stage II requirements for all dispensers used exclusively for the fueling or refueling of vehicles equipped with onroad vapor recovery (ORVR) equipment, as ORVR fully displaces the need for Stage II vapor recovery.

Chapter 391-3-20: Rules for Enhanced Inspection and Maintenance (I/M)

Rule 391-3-20-.01, relating to “Definitions” is being amended to add, delete, and modify definitions related to enhanced emission testing, and to renumber the definitions.

Rule 391-3-20-.03 paragraphs (8) and (9), relating to “Covered Vehicles; Exemptions” are being amended to clarify the grandfather status of gray market, kit cars, hot rods, senior citizens, and antique or collector car or truck exemptions.

Rule 391-3-20-.04 paragraphs (1) and (2), relating to “Emission Inspection Procedures” are being amended and paragraph (7) is being added to clarify and add to the requirements for inspectors to perform emissions inspections.

Rule 391-3-20-.05 paragraph (1) and subparagraphs (2)(a), (2)(b)3. and (2)(c), relating to “Emission Standards” are being amended to correct terms, synchronize the gray market test standards with other gray market requirements, and to clarify the fuel cap test requirements.

Rule 391-3-20-.07 paragraph (4), relating to “Inspection System Specifications” is being amended to clarify the fuel cap testing requirements.

Rule 391-3-20-.08 subparagraphs (2)(b) and (2)(c), relating to “Quality Control and Equipment Calibration Procedures” are being amended to change a reference concerning data transmission line requirements and to change the data file refresh requirement for mobile test systems.

Rule 391-3-20-.09 subparagraphs (2)(a), (2)(i), (2)(j) and (2)(l), relating to “Inspection Station Requirements” are being amended to add to the information requirements for a station application, clarify data transmission line requirements, amend how administrative fees are paid, and to clarify the requirement for posting business hours.

Rule 391-3-20-.11 paragraphs (4), (6) and (9), relating to “Inspector Qualifications and Certification” are being amended to clarify the requirements for inspector identification and to clarify the responsibility for inspections.

Rule 391-3-20-.12 paragraphs (1) through (5), relating to “Schedule for Emission Tests” are being amended to correct the term of an emission inspection and clarify the valid life of a certificate of emissions inspection.

Rule 391-3-20-.13 subparagraphs (1)(i), (2)(a) and (2)(b) and paragraph (3), relating to “Certification of Emissions Inspection” are being amended to clarify authority for issuing information and forms.

Rule 391-3-20-.15 paragraph (4), relating to “Repairs and Retests” is being amended and paragraph (7) is being added to clarify reinspection requirements and to provide for verification of a re-inspected vehicle.

Rule 391-3-20-.17 subparagraph (2)(a)1. and paragraph (3), relating to “Waivers” are being amended to update the repair waiver cost for test year 2001 and clarify the valid life of a waiver.

Rule 391-3-20-.18 paragraphs (1) and (2), relating to “Sale of Vehicles” are being amended to clarify vehicle sale requirements.

Rule 391-3-20-.19 paragraph (2), relating to “Management Contractor” is being amended to clarify access to inspection data.

Rule 391-3-20-.21 subparagraphs (2) and (3), relating to “Inspection Fees” are being amended to clarify the emission inspection fee and the program administration fee.

Rule 391-3-20-.22 paragraph (2), relating to “Enforcement” is being amended to clarify the terms of revocation for certificates of authorization and inspector licenses.

Description of Revisions Submitted On August 21, 2001

Chapter 391-3-1: Rules For Air Quality Control

Rule 391-3-1-.01, Definitions, is being amended. The definition of the Procedures For Testing And Monitoring Sources of Air Pollutants (PTM) is being changed to reflect a new revision date of May 1, 2001.

Rule 391-3-1-.02, subparagraph (2)(bbb)2., relating to “Reid Vapor Pressure” is being amended. To codify the Reid Vapor Pressure (RVP) testing tolerance resultant from reproducibility errors associated with the test methodology.

Rule 391-3-1-.02, subparagraph (2)(bbb)3., relating to “Sulfur Content” is being amended to provide for a maximum, seasonal per-gallon-cap on sulfur content in 2004 and beyond, and to codify the sulfur testing tolerances resultant from reproducibility errors associated with the test methodology.

Rule 391-3-1-.03, subparagraph (6)(i) thereof relating to “Exemptions” is being amended. The emissions level at which facilities are exempt from permitting and at which facilities may defer permit amendments for modifications is being increased.

Rule 391-3-1-.03, subparagraph (8)(c)12. thereof relating to “Offsets” is being amended. This addition will serve to clarify some current EPD policy regarding the generation of offsets by putting the policy directly into the applicable rule.

Rule 391-3-1-.03, subparagraphs (13)(d) and (13)(f) thereof relating to “Emission Reduction Credits” are being amended. These revisions will provide the Director with the authority to revoke Emission Reduction Credits or otherwise reduce their value in circumstances where a source that has proposed to generate and bank a certain emission reduction fails to achieve the reduction in practice.

Chapter 391-3-20: Rules for Enhanced Inspection and Maintenance (I/M)

Rule 391-3-20-.01, paragraphs (y), (ii), and (jj) thereof, relating to “Definitions” are being amended to modify definitions related to enhanced emission testing.

Rule 391-3-20-.03, paragraphs (1), (4), and (9) thereof, relating to “Covered Vehicles; Exemptions” are being amended to exempt “antique vehicles” in the covered vehicles category and to remove an outdated reference.

Rule 391-3-20-.04, subparagraph (2)(b) thereof, relating to “Emission Inspection Procedures” is being amended to establish criteria for using the 2-speed idle test on newer vehicles when OBD testing begins.

Rule 391-3-20-.05, paragraph (4) thereof, relating to “Emission Standards” is being amended to establish the “pass” criteria for the OBD system check on newer vehicles.

Rule 391-3-20-.06, paragraphs (3), (4), and (7) thereof, relating to “On-Road Testing” are being amended to clarify terms and to provide EPD the opportunity to witness reinspection of vehicles identified as high polluters.

Rule 391-3-20-.07, subparagraphs (1)(c) and (d) thereof, relating to “Inspection Equipment System Specifications” are being amended to include the requirement for station owners to procure OBD hardware and software.

Rule 391-3-20-.09, subparagraph (2)(h)4. thereof, relating to “Inspection Station Requirements” is being amended to update the reference to “information” on repair facilities.

Rule 391-3-20-.12, paragraph (2) thereof, relating to “Schedules for Emissions Tests” is being amended to remove an outdated reference.

Rule 391-3-20-.13, subparagraph (2)(c) thereof, relating to “Certificate of Emissions Inspection” is being amended to update the reference to “information” on repair facilities.

Rule 391-3-20-.15, paragraphs (4) and (7) thereof, relating to “Repairs and Retests” are being amended to clarify when a partial reinspection is allowed and to establish reinspection criteria for the OBD test.

Rule 391-3-20-.16, paragraphs (1) and (2) thereof, relating to “Extensions, Reciprocal Tests” are being amended to clarify eligibility for an extension and clarify requirements for reciprocal tests.

Rule 391-3-20-.20, paragraph (1) thereof, relating to “Referee Program” is being amended to clarify EPD's authority to request a referee test and clarify and extend the time period in which a referee test can be requested.

Rule 391-3-20-.21, paragraph (3) thereof, relating to “Program Administration Fees” is being amended to update the current administrative fee structure and to remove reference to the expired effective date.

Description of Revisions Submitted On December 28, 2001

Chapter 391-3-1: Rules For Air Quality Control

Rule 391-3-1-.01, relating to “Definitions” is being amended. The definition of the Procedures For Testing And Monitoring Sources of Air Pollutants (PTM) is being changed to reflect a new revision date of September 20, 2001.

Rule 391-3-1-.02, subparagraph (2)(rr) thereof, relating to “Gasoline Dispensing Facilities—Stage I” is being amended to provide for appropriate testing in accordance with changes in the California Air Resources Board (CARB) Stage I vapor recovery program which the present rule references; to revise the definition of a “Gasoline dispensing facility”; to revise the definition of “Division approved” in accordance with the CARB changes; to clarify the exemptions afforded to certain gasoline facilities; to specifically require documentation and reporting of testing required for Stage I vapor recovery systems; to correct typographical errors.

Rule 391-3-1-.02, subparagraph (2)(ss) thereof, relating to “Gasoline Transport Vehicles and Vapor Collection Systems” is being amended to provide for more consistent and reproducible documentation of all tests and repairs effected on transport vehicles regulated under this rule.

Rule 391-3-1-.02, subparagraph (2)(zz) thereof, relating to “Gasoline Dispensing Facilities—Stage II” is being amended to provide for appropriate testing in accordance with changes in the California Air Resources Board (CARB) Stage II vapor recovery program which the present rule references; to correct a reference to federal onboard refueling vapor recovery (ORVR); to revise the definition of “Approved Stage II vapor recovery system” in accordance with the CARB changes; to clarify the exemptions afforded to certain gasoline facilities; to correct typographical errors.

Rule 391-3-1-.02, subparagraph (2)(ooo) thereof, relating to “Heavy-Duty Diesel Engine Requirements” is being added to enable EPD to opt into the California Air Resources Board (CARB) rules for new Heavy Duty Diesel Engines (HDDE's) pursuant to section 177 of the Federal Clean Air Act (Act). The proposed rule would bar the sale/lease or the import of any new HDDE's in Georgia that are not certified by CARB to meet the emission standards of its HDDE rules.

Rule 391-3-1-.03, subparagraph (8)(c)6. thereof, relating to “Permit Requirements” is being amended to clarify the existing EPD policy regarding offsets. This revision compliments the revision described below to Rule 391-3-1-.03(8)(c)12.

Rule 391-3-1-.03, subparagraph (8)(c)12. thereof, relating to “Offsets” is being amended to eliminate a potential disagreement between the offset requirements in Rule 391-3-1-.03(8)(c) and the emissions reduction credits requirements in Rule 391-3-1-.03(13)(c).

Chapter 391-3-20: Rules for Enhanced Inspection and Maintenance (I/M)

Rule 391-3-20-.01, paragraphs (b), (p), (s) and (y) thereof, relating to “Definitions” are being amended to modify definitions related to enhanced emission testing.

Rule 391-3-20-.04, paragraphs (2) and (8) thereof, relating to “Emission Inspection Procedures” are being amended to establish criteria for inspections of newer vehicles when On-Board Diagnostics (OBD) testing begins; to address new fuel cap testing procedures; and to address electronic transmission of emission tests to the Management Contractor's database.

Rule 391-3-20-.05, paragraphs (2) and (4) thereof, relating to “Emission Standards” are being amended to address new fuel cap testing procedures and to clarify the “pass” criteria for the OBD system test on newer vehicles.

Rule 391-3-20-.07, paragraphs (1) and (4) thereof, relating to “Inspection Equipment System Specifications” are being amended to include the requirement for station owners to procure OBD hardware and software and to require current fuel cap adapter application guide.

Rule 391-3-20-.09, subparagraphs (2)(e) and (i) thereof, relating to “Inspection Station Requirements” are being amended to clarify requirements for inspection station owners.

Rule 391-3-20-.10, paragraph (7) thereof, relating to “Certificate of Authorization” is being added to provide the Director authority to deny an inspection station's Certificate of Authorization.

Rule 391-3-20-.11, paragraphs (1), (4) and (6) thereof, relating to “Inspector Qualifications and Certification” are being amended, and paragraph (11) added to clarify the required training for the different emission test; to update the requirements for Inspector ID cards; and to provide the Director authority for denying an inspector's Certificate.

Rule 391-3-20-.13, subparagraphs (1)(b), (n), (o) and (p) thereof, relating to “Certificate of Emissions Inspection” are being amended and/or added to clarify requirements.

Rule 391-3-20-.15, paragraph (2) thereof, relating to “Repairs and Retests” is being amended to clarify procedures and requirements for motorist emission repair forms.

Rule 391-3-20-.17, paragraph (2) thereof, relating to “Waivers” is being amended to update the repair waiver cost for test year 2002.

Rule 391-3-20-.22, subparagraph (2)(b) thereof, relating to “Enforcement” is being amended to establish a requirement for relinquishing the Inspector ID cards.

III. Final Action

EPA is approving the aforementioned changes to the Georgia SIP because they are consistent with the Clean Air Act and Agency requirements.

The EPA is publishing this rule without prior proposal because the Agency views this as a noncontroversial submittal and anticipates no adverse comments. However, in the proposed rules section of this Federal Register publication, EPA is publishing a separate document that will serve as the proposal to approve the SIP revision should adverse comments be filed. This rule will be effective September 9, 2002, without further notice unless the Agency receives adverse comments by August 12, 2002.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on September 9, 2002, and no further action will be taken on the proposed rule. Please note that if we receive adverse comment on an amendment, paragraph, or section of this rule and if that provision may be severed from the remainder of the rule, we may adopt as final those provisions of the rule that are not the subject of an adverse comment.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 9, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Lead, Nitrogen dioxide, Ozone, Particulate matter, Reporting and recordkeeping requirements, Sulfur oxides, Volatile organic compounds.

Dated: June 26, 2002.
Michael V. Peyton,
Acting Regional Administrator, Region 4.

PART 52—[AMENDED]

1. The authority citation for part 52 continues to read as follows:

Authority: 42 U.S.C. 7401 et seq.

Subpart L—Georgia

2. a. In the table in § 52.570(c), the following entries are revised: 391-3-1-.01; 391-3-1-.02(2)(rr); 391-3-1-.02(2)(ss); 391-3-1-.02(2)(zz); 391-3-1-.02(2)(bbb); 391-3-1-.03; 391-3-20.

b. In the table in § 52.570(c), the following entries are added: 391-3-1-.02(2)(ooo)

The additions and revisions read as follows:

§ 52.570 Identification of plan.

* * * * *

(c) * * *

EPA Approved Georgia Regulations
State citation | Title/subject | State effective date | EPA approval date | Comments
391-3-1-.01 | Definitions | 12/26/01 | 7/11/02 |
* * * * * * *
391-3-1-.02(2)(rr) | Gasoline Dispensing Facility—Stage 1 | 12/26/01 | 7/11/02
391-3-1-.02(2)(ss) | Gasoline Transport Vehicles and Vapor Collection Systems | 12/26/01 | 7/11/02 |
* * * * * * *
391-3-1-.02(2)(zz) | Gasoline Dispensing Facilities—Stage II | 12/26/01 | 7/11/02
* * * * * * *
391-3-1-.02(2)(bbb) | Gasoline Marketing | 7/18/01 | 7/11/02 |
* * * * * * *
391-3-1-.02(2)(ooo) | Heavy-Duty Diesel Engine Requirements | 12/26/01 | 7/11/02 |
* * * * * * *
391-3-1-.03 | Permits | 12/26/01 | 7/11/02
* * * * * * *
391-3-20 | Enhanced Inspection and Maintenance | 12/26/01 | 7/11/02 |
* * * * * * *

* * * * *

[FR Doc. 02-17318 Filed 7-10-02; 8:45 am]

BILLING CODE 6560-50-P